SMALL BUSINESS ADMINISTRATION

[Declaration of Disaster #3418]

State of Illinois (Amendment #1)

In accordance with a notice received from the Federal Emergency Management Agency, dated May 30, 2002, the above numbered declaration is hereby amended to include the following counties as disaster areas for damages caused by severe storms, tornadoes and flooding occurring on April 21, 2002 and continuing: Adams, Bond, Brown, Calhoun, Cass, Champaign, Christian, Clark, Coles, Crawford, Cumberland, De Witt, Douglas, Edgar, Ford, Fulton, Greene, Hancock, Iroquois, Jersey, Lawrence, Logan, Macon, Macoupin, Mason, McDonough, Menard, Montgomery, Morgan, Moultrie, Piatt, Pike, Sangamon, Schuyler, Scott, Shelby, Vermilion, and Wabash.

In addition, applications for economic injury loans from small businesses located in the following contiguous counties may be filed until the specified date at the previously designated location: Henderson, Kankakee, Knox, Livingston, McLean, Peoria, Tazewell, and Warren in the State of Illinois; Benton, Knox, Newton, Sullivan, Vermillion, Vigo, and Warren Counties in the State of Indiana; Lee County in the State of Iowa; and Clark, Lewis, Lincoln, Marion, Pike, and Ralls Counties in the State of Missouri.

The economic injury number assigned to Iowa is 9P8600.

All other information remains the same, i.e., the deadline for filing applications for physical damage is July 20, 2002 and for economic injury the deadline is February 21, 2003.

(Catalog of Federal Domestic Assistance Program Nos. 59002 and 59008).
Dated: June 3, 2002.
Herbert L. Mitchell,
Associate Administrator for Disaster Assistance.

[FR Doc. 02-14449 Filed 6-7-02; 8:45 am]

BILLING CODE 8025-01-P